DEPARTMENT OF COMMERCE

National Oceanic and Atmospheric Administration

Proposed Information Collection; Comment Request; Data Collection and Verification for the Marine Protected Areas Inventory

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before November 28, 2011.

ADDRESSES: Direct all written comments to Diana Hynek, Departmental Paperwork Clearance Officer, Department of Commerce, Room 6616, 14th and Constitution Avenue, NW., Washington, DC 20230 (or via the Internet at dHynek@doc.gov).

FOR FURTHER INFORMATION CONTACT: Requests for additional information or copies of the information collection instrument and instructions should be directed to Lauren Wenzel, (301) 563-1136 or lauren.wenzel@noaa.gov.

SUPPLEMENTARY INFORMATION:

I. Abstract

This request is for extension of a currently approved information collection.

Executive Order 13158 directs the Department of Commerce (DOC) and the Department of the Interior (DOI) to work with partners to strengthen the protection of U.S. oceans and coastal resources by developing a national system of marine protected areas (MPAs). These departments are working closely with state, territorial, local, and tribal governments, as well as other stakeholders, to identify and inventory the nation's existing MPAs. Toward this end, the DOC's National Oceanic and Atmospheric Administration (NOAA) and DOI have created the Marine Protected Areas Inventory, an online spatial database that provides detailed information on MPAs nationwide. The inventory stores data on over 1,600 sites, across different management programs and all levels of government. In order to keep this data resource current and accurate with the latest status and information on MPAs nationwide, the MPA Center has created an online site data form, posted at http://www.mpa.gov, that can be used to provide feedback regarding the accuracy of the MPA Inventory data and a mechanism to receive updates, additions or changes to existing database information. The online form can be used to identify new sites that should be added to the database or to provide clarification on the data stored in the existing version of the online MPA Inventory. An additional nomination checklist form is also posted at http://www.mpa.gov to collect information from eligible federal, state, territorial, local and tribal governments seeking to nominate their MPA to be part of the national system of MPAs. MPA programs (approximately five new each year) provide information on how their nominated sites meet the goals and objectives of the national system of MPAs.

II. Method of Collection

The information will be collected via an online data form.

III. Data

OMB Control Number: 0648-0449.

Form Number: None.

Type of Review: Regular submission (extension of a currently approved information collection).

Affected Public: State, local or tribal governments.

Estimated Number of Respondents: 100 per year.

Estimated Time per Response: 30 minutes.

Estimated Total Annual Burden Hours: 50 hours.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: September 22, 2011.
Gwellnar Banks,
Management Analyst, Office of the Chief Information Officer.

[FR Doc. 2011-24881 Filed 9-27-11; 8:45 am]

BILLING CODE 3510-22-P